COMMODITY FUTURES TRADING COMMISSION

Privacy Act of 1974; System of Records

AGENCY: Commodity Futures Trading Commission.

ACTION: Notice of a new system of records.

SUMMARY: The Commodity Futures Trading Commission (CFTC or Commission) is establishing a new system of records to cover the collection and maintenance of records pertaining to the administration of the CFTC's advisory committees and subcommittees.

DATES: In accordance with 5 U.S.C. 552a(e)(4) and (11), this notice will go into effect without further notice on April 5, 2023 unless otherwise revised pursuant to comments received. All routine uses will go into effect on May 5, 2023. Comments must be received on or before May 5, 2023.

ADDRESSES: You may submit comments, identified as pertaining to “CFTC-58 Advisory Committees,” by any of the following methods:

• CFTC Comments Portal: https://comments.cftc.gov. Select the “Submit Comments” link for this notice and follow the instructions on the Public Comment Form.

• Mail: Send to Christopher Kirkpatrick, Secretary of the Commission, Commodity Futures Trading Commission, Three Lafayette Centre, 1155 21st Street NW, Washington, DC 20581.

• Hand Delivery/Courier: Follow the same instructions as for Mail, above. Please submit your comments using only one of these methods. Submissions through the CFTC Comments Portal are encouraged.

All comments must be submitted in English, or if not, be accompanied by an English translation. Comments will be posted as received to comments.cftc.gov. You should submit only information that you wish to make available publicly.

The Commission reserves the right, but shall have no obligation, to review, pre-screen, filter, redact, refuse, or remove any or all of a submission from comments.cftc.gov that it may deem to be inappropriate for publication, such as obscene language. All submissions that have been redacted or removed that contain comments on the merits of this notice will be retained in the comment file and will be considered as required under all applicable laws, and may be accessible under the Freedom of Information Act.

FOR FURTHER INFORMATION CONTACT: Marcela Souaya, (202) 418-5137, privacy@cftc.gov, Office of the General Counsel, Commodity Futures Trading Commission, Three Lafayette Centre, 1155 21st Street NW, Washington, DC 20581.

SUPPLEMENTARY INFORMATION: The CFTC's advisory committees were created to provide input and make recommendations to the Commission on a variety of regulatory and market issues that affect the integrity and competitiveness of the United States (U.S.) derivatives markets. The committees facilitate communication between the Commission and U.S. derivatives markets, trading firms, market participants, and end users. The CFTC currently has five advisory committees. The Agricultural Advisory Committee, Global Markets Advisory Committee, Market Risk Advisory Committee, and the Technology Advisory Committee are discretionary committees under the Federal Advisory Committee Act (FACA), 5 U.S.C. 1001 et seq. The Energy and Environmental Markets Advisory Committee was established by the Dodd-Frank Wall Street Reform and Consumer Protection Act, Public Law 111-203, and subsequently codified in the Commodity Exchange Act, 7 U.S.C. 1 et seq., at 7 U.S.C. 2(a)(15), and is not subject to the FACA. The Commission also establishes and maintains subcommittees that report to advisory committees as needed. Advisory committee and subcommittee members are generally representatives, but depending on the issues to be addressed, the Commission will appoint special government employees (SGEs) and officials from other Federal agencies from time to time. The CFTC identifies candidates for advisory committee and subcommittee membership through a variety of methods, including public requests for nominations; recommendations from existing advisory committee members; consultations with knowledgeable persons outside the CFTC (industry, consumer groups, other state or Federal government agencies, academia, etc.); requests to be represented received from individuals and organizations; and Commissioners' and CFTC staff's professional knowledge of those experienced in the derivatives and other underlying commodities markets. The CFTC collects and maintains information on CFTC advisory committee and subcommittee applicants and members, and those who make recommendations for committee or subcommittee memberships, or otherwise interact with the CFTC regarding its advisory committees and subcommittees. The records are used for the administration of the CFTC's advisory committees and subcommittees.

SYSTEM NAME AND NUMBER:

Advisory Committees CFTC 58.

SECURITY CLASSIFICATION:

Unclassified.

SYSTEM LOCATION:

This system is located at the Commodity Futures Trading Commission, Three Lafayette Centre, 1155 21st Street NW, Washington, DC 20581. Records may also be located at the regional offices in Chicago, Illinois; Kansas City, Missouri; and New York, New York. The system will be hosted on the CFTC's cloud and data center computing infrastructure. Duplicate versions of some or all system information may be at satellite locations where the CFTC has granted direct access to support CFTC operations, system backup, emergency preparedness, and/or continuity of operations.

SYSTEM MANAGER(S):

Committee Management Officer and Deputy General Counsel for General Law, faca@cftc.gov, Office of the General Counsel, Commodity Futures Trading Commission, Three Lafayette Centre, 1155 21st Street NW, Washington, DC 20581.

AUTHORITY FOR MAINTENANCE OF THE SYSTEM:

The collection of records is authorized by the Federal Advisory Committee Act, 5 U.S.C. 1001 et seq., and 7 U.S.C. 2(a)(15).

PURPOSE(S) OF THE SYSTEM:

The system collects and maintains information on CFTC advisory committee and subcommittee applicants and members, and those who make recommendations for committee or subcommittee memberships, or otherwise interact with the CFTC regarding its advisory committees and subcommittees. The records are used for the administration of the CFTC's advisory committees and subcommittees. For example, as part of the member evaluation and selection process, the CFTC collects and maintains information to determine the experience and expertise of potential advisory committee and subcommittee members, ensure that the membership on a committee or subcommittee is balanced, and ensure that committee and subcommittee members are properly designated as representatives or SGEs. The records are also used to document and manage committee and subcommittee memberships, to receive public input regarding the work of the advisory committees and subcommittees, and to complete the annual mandatory FACA report to the General Services Administration (GSA).

CATEGORIES OF INDIVIDUALS COVERED BY THE SYSTEM:

The categories of individuals in this system include, but are not limited to:

1. Advisory committee and subcommittee applicants;

2. Current and past advisory committee and subcommittee members;

3. Advisory committee and subcommittee experts and consultants;

4. Administrative assistants to the above-listed categories of individuals;

5. Advisory committee and subcommittee member organization point persons, designated representative members, and designated alternate representative members;

6. Advisory committee meeting panelists;

7. Individuals who make advisory committee or subcommittee member recommendations or serve as references; and,

8. Individuals who attend advisory committee or subcommittee meetings or provide public comments in conjunction with advisory committee meetings.

CATEGORIES OF RECORDS IN THE SYSTEM:

The categories of records in this system include, but are not limited to:

1. Contact information (e.g., name, title, home or work address, personal or work email address, personal or work number, employer, and/or organizational affiliation) for advisory committee and subcommittee applicants and current and past members (including organizational point persons, designated representative members, and designated representative alternate members), and administrative assistants to these individuals; advisory committee and subcommittee experts and consultants; advisory committee meeting panelists; individuals who make advisory committee or subcommittee member recommendations or serve as references; and, individuals who attend advisory committee or subcommittee meetings or provide public comments in conjunction with advisory committee meetings;

2. Information that supports an applicant's experience and expertise to serve or a member's experience and expertise to continue to serve on an advisory committee or subcommittee, including letters of interest, recommendation letters, nomination letters (including self-nominations), and biographical information (e.g., education, work experience, areas of expertise, professional societies, board and other committee memberships, authored publications, professional awards, etc.);

3. Information that ensures appropriate designation of an applicant or member as either a representative or SGE, membership balance (i.e., represented organization and viewpoint category), or to the extent possible, helps the agency select members representing a wide ethnic, racial, gender, and age representation;

4. Federal lobbyist status and other vetting documentation; and,

5. Miscellaneous correspondence relating to the above.

RECORD SOURCE CATEGORIES:

The sources for the records maintained in this system include, but are not limited to:

1. Advisory committee and subcommittee applicants;

2. Current and past advisory committee and subcommittee members;

3. Advisory committee and subcommittee experts and consultants;

4. Administrative assistants to the above-listed categories of individuals;

5. Advisory committee and subcommittee member organization point persons, designated representative members, and designated alternate representative members;

6. Advisory committee meeting panelists;

7. Individuals who make advisory committee or subcommittee member recommendations or serve as references; and

8. Individuals who attend advisory committee or subcommittee meetings or provide public comments in conjunction with advisory committee meetings.

ROUTINE USES OF RECORDS MAINTAINED IN THE SYSTEM, INCLUDING CATEGORIES OF USERS AND PURPOSES OF SUCH USES:

These records and information in these records may be disclosed:

1. To the Chair or co-Chair of an advisory committee or subcommittee and other committee or subcommittee members to assign tasks to achieve a committee's or subcommittee's goals; to distribute information to committee or subcommittee members, their assistants, and other meeting participants for the purposes of conducting meetings and general committee or subcommittee business; and/or to prepare and review committee and subcommittee reports and/or recommendations.

2. To the public to access information about the CFTC's advisory committees and subcommittees, including its members and activities on the CFTC website (https://www.cftc.gov).

3. To the GSA or the Library of Congress when necessary in the administration of the CFTC's FACA committees and subcommittees, including complying with reporting obligations.

4. To the appropriate agencies, entities, and persons to the extent necessary to obtain information relevant to a determination of whether an individual is eligible to serve on a CFTC advisory committee or subcommittee, and whether the individual would serve in a representative or SGE capacity.

5. To contractors performing or working on a contract for the Federal government when necessary to accomplish an agency function.

6. To the Government Accountability Office (GAO) and other appropriate Federal legislative oversight authorities with the responsibility for reviewing agency advisory committees.

7. To the Department of Justice (DOJ) or in a proceeding before a court, adjudicative body, or other administrative body before which the agency is authorized to appear, when:

a. The Commission, or any division or office thereof;

b. Any employee of the Commission in their official capacity;

c. Any employee of the Commission in their personal capacity where the DOJ or the agency has agreed to represent the employee; or

d. The United States, when the Commission determines that litigation is likely to affect the agency or any of its divisions or offices; is a party to litigation or has an interest in such litigation, and the use of such records by the DOJ or the Commission is deemed by the agency to be relevant and necessary to the litigation provided, however, that in each case it has been determined that the disclosure is compatible with the purpose for which the records were collected.

8. To the National Archives and Records Administration pursuant to its records management and inspection authorities under 44 U.S.C. 2904 and 2906.

9. To appropriate agencies, entities, and persons when (1) the Commission suspects or has confirmed that there has been a breach of the system of records; (2) the Commission has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm.

10. To another Federal agency or Federal entity, when the Commission determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Records maintained in this system of records are stored electronically or on paper in secure facilities.

POLICIES AND PRACTICES FOR RETRIEVAL OF RECORDS:

The records are retrieved by an individual's or committee's name.

POLICIES AND PRACTICES FOR RETENTION AND DISPOSAL OF RECORDS:

The records maintained in this system are retained and disposed of in accordance with the National Archives and Records Administration (NARA) General Records Schedule DAA-GRS-2015-0001 (GRS 6.2) Federal Advisory Committee Records. The CFTC disposes of the paper documents by shredding. All electronic records, files, and data are destroyed either by physical destruction of the electronic storage media or by erasure of the data.

ADMINISTRATIVE, TECHNICAL, AND PHYSICAL SAFEGUARDS:

Records are protected from unauthorized access and improper use through administrative, technical, and physical security measures employed by the CFTC. Administrative safeguards include maintenance of written policies, standards, and procedures reinforced by training and periodic auditing. Technical security safeguards include restrictions on computer access to authorized individuals who have a legitimate need to know the information; required use of strong passwords that are frequently changed; multi-factor authentication for remote access and access to many network components; use of encryption for certain data types and transfers; and firewalls and intrusion detection applications. Physical safeguards include restrictions on building access to authorized individuals, use of security guard services, and video surveillance.

RECORD ACCESS PROCEDURES:

Individuals seeking to determine whether this system of records contains information about themselves or seeking access to records about themselves in this system of records should address written inquiries to the Office of the General Counsel, Commodity Futures Trading Commission, Three Lafayette Centre, 1155 21st Street NW, Washington, DC 20581. See 17 CFR 146.3 for full details on what to include in a Privacy Act access request.

CONTESTING RECORD PROCEDURES:

Individuals contesting the content of records about themselves contained in this system of records should address written inquiries to the Office of the General Counsel, Commodity Futures Trading Commission, Three Lafayette Centre, 1155 21st Street NW, Washington, DC 20581. See 17 CFR 146.8 for full details on what to include in a Privacy Act amendment request.

NOTIFICATION PROCEDURES:

Individuals seeking notification of any records about themselves contained in this system of records should address written inquiries to the Office of the General Counsel, Commodity Futures Trading Commission, Three Lafayette Centre, 1155 21st Street NW, Washington, DC 20581. See 17 CFR 146.3 for full details on what to include in a Privacy Act notification request.

EXEMPTIONS PROMULGATED FOR THE SYSTEM:

None.

HISTORY:

None.

Issued in Washington, DC, on March 30, 2023, by the Commission.
Christopher Kirkpatrick,
Secretary of the Commission.

[FR Doc. 2023-07030 Filed 4-4-23; 8:45 am]

BILLING CODE 6351-01-P